SMALL BUSINESS ADMINISTRATION

[Disaster Declaration #16882 and #16883; Oklahoma Disaster Number OK-00145]

Presidential Declaration Amendment of a Major Disaster for the State of Oklahoma

AGENCY: U.S. Small Business Administration.

ACTION: Amendment 2.

SUMMARY: This is an amendment of the Presidential declaration of a major disaster for the State of Oklahoma (FEMA-4587-DR), dated 02/24/2021.

Incident: Severe Winter Storms.

Incident Period: 02/08/2021 through 02/20/2021.

DATES: Issued on 05/11/2021.

Physical Loan Application Deadline Date: 05/25/2021.

Economic Injury (EIDL) Loan Application Deadline Date: 11/24/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of Oklahoma, dated 02/24/2021, is hereby amended to include the following areas as adversely affected by the disaster:

Primary Counties (Physical Damage and Economic Injury Loans): Muskogee

All Contiguous Counties have been previously declared.

All other information in the original declaration remains unchanged.

(Catalog of Federal Domestic Assistance Number 59008)

James Rivera,
Associate Administrator for Disaster Assistance.

[FR Doc. 2021-10331 Filed 5-14-21; 8:45 am]

BILLING CODE 8026-03-P